ENVIRONMENTAL PROTECTION AGENCY

[EPA-New England Region I—EPA-R01-OW-2008-0875; FRL-8751-3]

Maine Marine Sanitation Device Standard—Receipt of Petition

AGENCY: Environmental Protection Agency (EPA).

ACTION: Notice—Receipt of Petition.

SUMMARY: Notice is hereby given that a petition has been received from the state of Maine requesting a determination by the Regional Administrator, U.S. Environmental Protection Agency, that adequate facilities for the safe and sanitary removal and treatment of sewage from all vessels are reasonably available for the waters of Kennebunk, Kennebunkport and Wells.

DATES: Comments due by January 12, 2009.

ADDRESSES: Submit your comments, identified by Docket ID No. EPA-R01-OW-2008-0875, by one of the following methods: http://www.regulations.gov, Follow the on-line instructions for submitting comments.

• E-mail: rodney.ann@epa.gov.

• Fax: (617) 918-0538.

Mail and hand delivery: U.S. Environmental Protection Agency—New England Region, One Congress Street, Suite 1100, COP, Boston, MA 02114-2023. Deliveries are only accepted during the Regional Office's normal hours of operation (8 a.m.-5 p.m., Monday through Friday, excluding legal holidays), and special arrangements should be made for deliveries of boxed information.

Instructions: Direct your comments to Docket ID No. EPA-R01-OW-2008-0875. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov, or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copy-righted material, will be publicly available only in hard copy. Publicly available docket materials are available either electronically in http://www.regulations.gov or in hard copy at the U. S. Environmental Protection Agency—New England Region, One Congress Street, Suite 1100, COP, Boston, MA 02114-2023. Such deliveries are only accepted during the Regional Office's normal hours of operation, and special arrangements should be made for deliveries of boxed information. The Regional Office is open from 8 a.m.-5 p.m. Monday through Friday, excluding legal holidays. The telephone number is (617) 918-1538.

FOR FURTHER INFORMATION CONTACT: Ann Rodney, U. S. Environmental Protection Agency—New England Region, One Congress Street, Suite 1100, COP, Boston, MA 02114-2023. Telephone: (617) 918-1538, Fax number: (617) 918-0538; e-mail address: rodney.ann@epa.gov.

SUPPLEMENTARY INFORMATION: Notice is hereby given that a petition has been received from the State of Maine requesting a determination by the Regional Administrator, U. S. Environmental Protection Agency, pursuant to section 312(f)(3) of Public Law 92-500 as amended by Public Law 95-217 and Public Law 100-4, that adequate facilities for the safe and sanitary removal and treatment of sewage from all vessels are reasonably available for the Kennebunk, Kennebunkport, Wells area.

The proposed no discharge area for the KENNEBUNK/KENNEBUNKPORT/WELLS:

Waterbody/general area | Latitude | Longitude
From “Moody Point in Wells north to a point a the westerly head of navigation of the Webehannet River | 43°19′19.07″ N | 70°33′57.8″ W.
Northeast to the head of navigation of the middle fork of the Webehannet River | 43°17′12.21″ N | 70°34′143.98″ W.
Northeast to the head of navigation of the eastern fork of the Webehannet River | 43°19′25.8″ N | 70°33′32.54″ W.
East to the head of navigation of the Mousam River | 43°21′44.16″ N | 70°31′35.53″ W.
East to the head of navigation of the Kennebunk River | 43°22′23.52″ N | 70°29′3.77″ W.
East to “Cape Arundel” | 43°20′25.42″ N | 70°27′58.36″ W.
Southwest in a straight line to Moody Point | 42°17′12.21″ N | 70°34′14.98″ W.

The proposed NDA includes the municipal waters of Kennebunkport, Kennebunk, and Wells.

There are marinas, yacht clubs and public landings/piers in the proposed area with a combination of mooring fields and dock space for the recreational and commercial vessels. Maine has certified that there are five pumpout facilities within the proposed area available to the boating public. The majority of facilities are connected to the sewage system. A list of the facilities, phone numbers, locations, and hours of operation is provided at the end of this petition.

Maine has provided documentation indicating that the total vessel population is estimated to be 537 in the proposed area. It is estimated that 195 of the total vessel population may have a Marine Sanitation Device (MSD) of some type.

The proposed area is identified as a High Value Wildlife Habitat by the U.S. fish and Wildlife Service and contains the Wells National Estuarine Research Reserve and the Rachel Carson National Wildlife Refuge. The intertidal zone includes a diverse array of habitats from rocky shores to large amounts of wetland and salt marshes and mud flats. There are over 19,700 acres of salt marshes. The area includes 672 acres of essential habitat for the federally endangered Piping Plover and Least Tern. There are 11 beaches, three marinas, three boat launches, and four campgrounds in the proposed area. This area is a popular destination for boaters due to its natural environmental diversity and would benefit from a No Discharge Area.

Pumpout Facilities Within Proposed No Discharge Areas
Name | Location | Contact info. | Hours | Mean low water depth (feet)
Kennebunk/Kennebunk/Wells
Harbormaster | Wells | 207-646-3226, VHF 16 | 7 a.m.-3 p.m. | 10
Yachtsman | Kennebunk River | 207-967-2511, VHF 9 | 8 a.m.-5 p.m., 7 days | 10
Kennebunkport Marina | Kennebunk River | 207-967-3411, VHF 9 | 8 a.m.-5 p.m., 7 days | 10
Chicks Marina | Kennebunk River | 207-967-2782, VHF 9 | 8 a.m.-5 p.m., 7 days | 10
River Commission pumpout float | Kennebunk River | 207-967-4243 | 24/7 self service | 8

Dated: November 30, 2008.
Robert W. Varney,
Regional Administrator, New England Region.

[FR Doc. E8-29478 Filed 12-11-08; 8:45 am]

BILLING CODE 6560-50-P